FEDERAL RESERVE SYSTEM

Formations of, Acquisitions by, and Mergers of Bank Holding Companies; Correction

This notice corrects a notice (FR Doc. 00-9055) published on page 19766 of the issue for Wednesday, April 12, 2000.

Under the Federal Reserve Bank of New York heading, the entry for The Dai-Ichi Kangyo Fuji Trust & Banking Co., Ltd., Tokyo, Japan, is revised to read as follows:

A. Federal Reserve Bank of New York (Betsy Buttrill White, Senior Vice President), 33 Liberty Street, New York, New York 10045-0001:

1. The Dai-Ichi Kangyo Fuji Trust & Banking Co., Ltd., Tokyo, Japan; to become a bank holding company through the ownership of 100 percent of, and by the conversion of its U.S. subsidiary, DKF Trust Company (USA), New York, New York, an insured New York state-chartered trust company, into a bank, as defined by the BHC Act.

Comments on this application must be received by May 5, 2000.

Board of Governors of the Federal Reserve System, April 14, 2000.
Jennifer J. Johnson,
Secretary of the Board.

[FR Doc. 00-9883 Filed 4-19-00; 8:45 am]

BILLING CODE 6210-01-P